DEPARTMENT OF THE INTERIOR

Bureau of Land Management

[LLAZP01000.L12200000.EA0000; AZ-SRP-AZA-036683]

Notice of Temporary Closure of Public Lands in Maricopa County, AZ

AGENCY: Bureau of Land Management, Interior.

ACTION: Notice of closure.

SUMMARY: Notice is hereby given that a temporary closure will be in effect on public lands administered by the Bureau of Land Management (BLM), Hassayampa Field Office, during the Vulture Mine Off-Road Challenge official permitted off-highway vehicle (OHV) race events.

DATES: These closures will be in effect from 2 p.m., February 9, 2018, through 10 p.m., February 11, 2018, Mountain Standard Time.

ADDRESSES: This temporary closure or restriction order will be posted in the Phoenix District Office, 21605 North 7th Avenue, Phoenix, AZ 85027. Maps of the affected area and other documents associated with this temporary closure are available at Hassayampa Field Office, which is located at the same address as the Phoenix District Office.

FOR FURTHER INFORMATION CONTACT: John (Jake) Szympruch, District Chief Ranger; telephone 623-580-5500; email: jszympru@blm.gov; or Rem Hawes, Hassayampa Field Office Manager; telephone 623-580-5500; email: rhawes@blm.gov. Persons who use a telecommunications device for the deaf (TDD) may call the Federal Relay Service (FRS) at 1-800-877-8339 to contact the above individuals during normal business hours. FRS is available 24 hours a day, 7 days a week, to leave a message or question for the above individual. You will receive a reply during normal business hours.

SUPPLEMENTARY INFORMATION: The temporary closure affects certain public lands within the Vulture Mine Recreation Management Zone in Maricopa County, Arizona. This action is being taken to help ensure public safety during the Vulture Mine Off-Road Challenge official permitted OHV race events.

The BLM will post temporary closure signs at main entry points to this area. This event is authorized on public land under a Special Recreation Permit, in conformance with the Wickenburg Travel Management Plan and the Bradshaw-Harquahala Record of Decision and Approved Resource Management Plan. Under the authority of Section 303(a) of the Federal Land Policy and Management Act of 1976 (43 U.S.C. 1733(a)), 43 CFR 8360.0-7, and 43 CFR 8364.1, the BLM will enforce the following temporary closure and restrictions within Vulture Mine Recreation Zone.

Description of Race Course Closed Area: Areas subject to this temporary closure include all public lands situated within the interior of the race course as well as the race course. The race course begins at the intersection of BLM routes 9092F and 9090C traveling east along 9090C to 9090D going south and then east along 9090D to 9090; continue traveling along 9090 north to 9093A to 9274 traveling northeast to 9094, traveling southeast to 9195 to 9286, then traveling northeast to 9196, to 9192 then to route 9095 traveling north and west to 9089C to 9089A north to 9092B west to 9092 to 9092F and south returning to the beginning intersection with 9090C.

Closure: The designated race course and all areas within the boundary of the race course as described above are temporarily closed to public entry during the temporary closure.

Exceptions to Closure: The temporary closure does not apply to Federal, State, and local officers and employees in the performance of their official duties; members of organized rescue or fire-fighting forces in the performance of their official duties; persons with written authorization for the period of the race event from the BLM; and designated race officials, participants, pit crews, or persons operating on their behalf.

Enforcement: Any person who violates the temporary closure may be tried before a United States magistrate and fined in accordance with 18 U.S.C. 3571, imprisoned no more than 12 months under 43 U.S.C. 1733(a) and 43 CFR 8360.0-7, or both. In accordance with 43 CFR 8365.1-7, State or local officials may also impose penalties for violations of Arizona law.

Effect of Closure: The entire area encompassed by the designated race course and all areas within the race course as described above and in the time period as described above are temporarily closed to all public use, including pedestrian use and vehicles, unless specifically excepted as described above.

Authority: 43 CFR 8364.1.

Rem Hawes,
Field Manager.

[FR Doc. 2018-01764 Filed 1-29-18; 8:45 am]

BILLING CODE 4310-32-P